DEPARTMENT OF AGRICULTURE

U.S. Codex Office

Codex Alimentarius Commission: Meeting of the Codex Committee on Fats and Oils

AGENCY: U.S. Codex Office, USDA.

ACTION: Notice of public meeting and request for comments.

SUMMARY: The U.S. Codex Office is sponsoring a public meeting on January 23, 2024. The objective of the public meeting is to provide information and receive public comments on agenda items and draft U.S. positions to be discussed at the 28th Session of the Codex Committee on Fats and Oils (CCFO28) of the Codex Alimentarius Commission (CAC). CCFO28 will be held in Kuala Lumpur, Malaysia, from February 19-23, 2024. The U.S. Manager for Codex Alimentarius and the Under Secretary for Trade and Foreign Agricultural Affairs recognize the importance of providing interested parties the opportunity to obtain background information on the 28th Session of the CCFO and to address items on the agenda.

DATES: The public meeting is scheduled for January 23, 2024, from 1-2:30 p.m. EDT.

ADDRESSES: The public meeting will take place via Video Teleconference only. Documents related to the 28th Session of the CCFO will be accessible via the internet at the following address: https://www.fao.org/fao-who-codexalimentarius/meetings/detail/jp/?meeting=CCFO&session=28.

The U.S. Delegate to the 28th Session of the CCFO invites interested U.S. parties to submit their comments electronically to the following email address: Girdhari.sharma@fda.hhs.gov or doreen.chenmoulec@usda.gov.

Registration: Attendees may register to attend the public meeting here: https://www.zoomgov.com/meeting/register/vJIsdOCtqzsjHRhu5Zl-hKwftuzVhRNchlo. After registering, you will receive a confirmation email containing information about joining the meeting.

For further information about the 28th Session of the CCFO, contact Dr. Girdhari Sharma of the U.S. Food and Drug Administration, Girdhari.sharma@fda.hhs.gov. For additional information about the public meeting, contact the U.S. Codex Office by email at: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Fats and Oils (CCFO) are:

(a) To elaborate worldwide standards for fats and oils of animal, vegetable and marine origin including margarine and olive oil.

The CCFO is hosted by Malaysia. The United States attends the CCFO as a member country of Codex.

Issues To Be Discussed at the Public Meeting

The following items from the forthcoming Agenda for the 28th Session of the CCFO will be discussed during the public meeting:

• Matters referred to the Committee by the Codex Alimentarius Commission and/or its subsidiary bodies

• Consideration of the recommendations of the Reports of the 90th and 91st Meeting of the Joint FAO/WHO Expert Committee on Food Additives (JECFA)

• Proposed draft Amendment/revision to the Standard for Named Vegetable Oils (CXS 210-1999)

○ Inclusion of avocado oil

○ Inclusion of camellia seed oil

○ Inclusion of sacha inchi oil

○ Inclusion of high oleic acid soya bean oil

• Proposed draft revision to the Standard for Olive Oils and Olive Pomace Oils (CXS 33-1981): Revision of Sections 3, 8 and Appendix

• Proposed draft amendment/revision of the Standard for Fish Oils (CXS 329-2017): Inclusion of Calanus oil

• Review of the List of Acceptable Previous Cargoes (Appendix II to CXC 36-1987)

• Discussion paper on possible work that CCFO could undertake to reduce trans fatty acids (TFAs) or eliminate partially hydrogenated oils (PHOs)

• Consideration of the proposals for new work and or amendments to existing Codex Standards

Public Meeting

At the January 23, 2024 public meeting, draft U.S. positions on the agenda items will be described and discussed, and attendees will have the opportunity to pose questions and offer comments. Written comments may be offered at the meeting or sent to Dr. Girdhari Sharma of the U.S. Food and Drug Administration at Girdhari.sharma@fda.hhs.gov or Ms. Doreen Chen Moulec of the U.S. Codex Office at Doreen.chenmoulec@usda.gov. Written comments should state that they relate to activities of the 28th Session of the CCFO.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on December 19, 2023.
Julie Chao,
Deputy U.S. Manager for Codex Alimentarius.

[FR Doc. 2023-28269 Filed 12-21-23; 8:45 am]

BILLING CODE P